DEPARTMENT OF COMMERCE

National Oceanic and Atmospheric Administration

[I.D. 042704C]

Proposed Information Collection; Comment Request; Small-Craft Facility Questionnaire

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 2, 2004.

ADDRESSES: Direct all written comments to Diana Hynek, Departmental Paperwork Clearance Officer, Department of Commerce, Room 6625, 14th and Constitution Avenue, NW, Washington, DC 20230 (or via e-mail at dHynek@doc.gov).

FOR FURTHER INFORMATION CONTACT: Requests for additional information or copies of the information collection instrument and instructions should be directed to Lyn Preston, N/CS26, Station 7350, 1315 East West Highway, Silver Spring, MD 20910-3282 (301.713.2737 x123).

SUPPLEMENTARY INFORMATION:

I. Abstract

NOAA's National Ocean Service produces nautical charts to ensure safe navigation. Small-craft charts are designed for recreational boaters and include information on local marina facilities and the services they provide (fuel, repairs, etc.). NOAA must collect information to update the charts.

II. Method of Collection

A web-based utility has been created that facilitates the voluntary submission of user (facility owner/operator) data for available marina services.

III. Data

OMB Number: 0648-0021.

Form Number: None.

Type of Review: Regular submission.

Affected Public: Businesses and other for-profit organizations (small-craft facilities or marinas).

Estimated Number of Respondents: 1,600.

Estimated Time Per Response: 10 minutes.

Estimated Total Annual Burden Hours: 230.

Estimated Total Annual Cost to Public: $0.

IV. Request for Comments

Comments are invited on: (a) whether the proposed collection of information is necessary for the proper performance of the functions of the agency, including whether the information has practical utility; (b) the accuracy of the agency's estimate of the burden (including hours and cost) of the proposed collection of information; (c) ways to enhance the quality, utility, and clarity of the information to be collected; and (d) ways to minimize the collection of information burden on respondents through the use of automated collection techniques or other forms of information technology.

Comments submitted in response to this notice will be summarized and/or included in the request for OMB approval of this information collection; they also will become a matter of public record.

Dated: April 23, 2004.
Gwellnar Banks,
Management Analyst, Office of the Chief Information Officer.

[FR Doc. 04-10006 Filed 4-30-04; 8:45 am]

BILLING CODE 3510-JE-S